DEPARTMENT OF AGRICULTURE

Animal and Plant Health Inspection Service

[Docket No. APHIS-2012-0060]

Availability of an Environmental Assessment for a Biological Control Agent for Hemlock Woolly Adelgid

AGENCY: Animal and Plant Health Inspection Service, USDA.

ACTION: Notice.

SUMMARY: We are advising the public that the Animal and Plant Health Inspection Service has prepared an environmental assessment relative to the release of Symnus coniferarum to control hemlock woolly adelgid. The environmental assessment considers the effects of, and alternatives to, the release of Symnus coniferarum into the eastern United States for use as a biological control agent to reduce the severity of hemlock woolly adelgid infestations. We are making the environmental assessment available to the public for review and comment.

DATES: We will consider all comments that we receive on or before September 4, 2012.

ADDRESSES: You may submit comments by either of the following methods:

• Federal eRulemaking Portal: Go to http://www.regulations.gov/#!documentDetail;D=APHIS-2012-0060-0001.

• Postal Mail/Commercial Delivery: Send your comment to Docket No. APHIS-2012-0060, Regulatory Analysis and Development, PPD, APHIS, Station 3A-03.8, 4700 River Road Unit 118, Riverdale, MD 20737-1238.

Supporting documents and any comments we receive on this docket may be viewed at http://www.regulations.gov/#!docketDetail;D=APHIS-2012-0060 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Dr. Shirley A. Wager-Page, Chief, Pest Permitting Branch, Registration, Identification, Permitting, and Plant Safeguarding, APHIS, 4700 River Road Unit 133, Riverdale, MD 20737-1236; (301) 851-2323.

SUPPLEMENTARY INFORMATION:

The Animal and Plant Health Inspection Service (APHIS) is proposing to issue permits for the release of Scymnus coniferarum, a native predaceous beetle from the western United States, into the eastern United States for use as a biological control agent to reduce the severity of hemlock woolly adelgid (Adelges tsugae) infestations on hemlock.

Hemlock woolly adelgid was accidentally introduced to the eastern United States from Asia. Although native to the western United States, in the eastern United States, hemlock woolly adelgid is a destructive pest of the eastern hemlock (Tsuga canadensis), where it causes needle loss, abortion of buds, and the eventual death of infested trees.

Four predatory beetles have been introduced to the eastern United States as biological controls of hemlock woolly adelgid with two of these considered established in the eastern United States. However, because hemlock woolly adelgid has a multigenerational lifestyle with multiple forms appearing at different times during the year, a group of natural predators similar to that found in areas in which it is native is needed in order to provide more efficient control. Therefore, APHIS is proposing to issue permits for the release of S. coniferarum into the eastern United States in order to reduce the severity and extent of hemlock woolly adelgid infestations.

The proposed biological control agent, S. coniferarum, is a small lady beetle about 2 millimeters long and covered in fine, short hairs. In the wild it feeds on all hemlock woolly adelgid stages except nymphs that are in diapause during the summer. Because the larvae of S. coniferarum primarily target the egg stage of the hemlock woolly adelgid in late spring to early summer, the release of S. coniferarum will provide a predator that the spring generation of hemlock woolly adelgid currently lacks in the eastern United States.

APHIS' review and analysis of the potential environmental effects associated with the proposed action are documented in detail in an environmental assessment (EA) entitled “Release of the Predatory Beetle Scymnus coniferarum (Coleoptera: Coccinellidae), for Biological Control of the Hemlock Woolly Adelgid (Adelges tsugae) in the Eastern United States” (February 2012). We are making the EA available to the public for review and comment. We will consider all comments that we receive on or before the date listed under the heading DATES at the beginning of this notice.

The EA may be viewed on the Regulations.gov Web site or in our reading room. (Instructions for accessing Regulations.gov and information on the location and hours of the reading room are provided under the heading ADDRESSES at the beginning of this notice.) In addition, copies may be obtained by calling or writing to the individual listed under FOR FURTHER INFORMATION CONTACT.

The EA has been prepared in accordance with: (1) The National Environmental Policy Act of 1969 (NEPA), as amended (42 U.S.C. 4321 et seq.); (2) regulations of the Council on Environmental Quality for implementing the procedural provisions of NEPA (40 CFR parts 1500-1508); (3) USDA regulations implementing NEPA (7 CFR part 1b); and (4) APHIS= NEPA Implementing Procedures (7 CFR part 372).

Done in Washington, DC, this 30th day of July 2012.
Kevin Shea,
Acting Administrator, Animal and Plant Health Inspection Service.

[FR Doc. 2012-19029 Filed 8-2-12; 8:45 am]

BILLING CODE 3410-34-P